DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Assessment of the National Leadership Institute Program and Services and the Minority Community-based Organization Program—(OMB No. 0930—0203, Revision) “ The Substance Abuse and Mental Health Administration's (SAMHSA) Center for Substance Abuse Treatment (CSAT) is conducting an assessment of its National Leadership Institute (NLI). The goal underlying the technical assistance and training opportunities provided through the NLI is to strengthen the competitive position of nonprofit community-based organizations (CBOs) which are essential components of local substance abuse services for the uninsured and under-insured.

Both a process and an impact assessment are being conducted. The process assessment describes the needs faced by CBOs, the types of training and technical assistance that CBOs receive through the NLI, and CBO satisfaction with services. The impact assessment focuses on specific changes made by CBOs in response to NLI recommendations, and improvements in self-rated organizational performance and several organization status measures.

The assessment design for technical assistance is a pre-post-post design that collects identical information from the TA recipient organizations at initiation of NLI contact and again after 12 and 24 months. These time frames are necessary to allow CBOs the opportunity to address NLI technical assistance recommendations and to plan and implement their changes. In addition, the assessment collects satisfaction measures from the TA recipient organization after each technical assistance event and at 12 and 24 months after the initial TA event.

The training component of NLI is also a pre-post-post design. Participants complete a brief questionnaire prior to receiving either onsite or online training, as well as immediately upon completion of the training. Training participants are also sent a 30-day follow-up questionnaire in the mail. With the introduction of online training, the 30-day follow-up may be submitted via e-mail, as well.

Most of the assessment forms for both TA and training have undergone minor revisions. The Organizational Self-Assessment and the 12-Month Follow-Up Organizational Self-Assessment were revised to eliminate some of the items that were confusing to respondents and to capture some key indicators that will be more useful to TA providers and for evaluation purposes. The Activity Summary has been revised to better capture GPRA data and to better record the nature of the recommendations an agency receives from a TA provider. The training forms have undergone minor revisions that include rewording and the addition and/or deletion of questions to tailor the instrument to persons who participate in NLI's online training. In addition, the program will program will use the Government Performance and Results Act Customer Satisfaction Surveys for the Center for Substance Abuse Treatment Knowledge Application Programs (OMB No. 0930-0197).

NLI data collection burden is borne primarily by directors of the CBOs who provide initial contact information, pre- and post-test versions of organizational self-assessments, satisfaction forms, and activity summaries/telephone interviews. Finally, individuals who attend NLI onsite training events and/or complete an online training course will receive a brief questionnaire prior to the training and satisfaction questionnaires immediately after the training, as well as 30 days after the training (5 minutes each).

In addition, CSAT also wishes to have its new Minority Community-Based Organization (MCBO) program become an approved user of the Organizational Self-Assessment and Organizational Self-Assessment Follow-Up forms. The MCBO program is designed to identify and cultivate substance abuse treatment partnerships with a maximum of 30 service MCBOs/providers that use culturally specific interventions that address the substance abuse treatment and HIV/AIDS service needs of African-American, Hispanic/Latino and other ethnic and racial minority populations and to provide developmental consultations as well as specialized technical assistance to these MCBOs/service providers to optimize organizational and service capacity and to achieve success in obtaining competitive grant funding.

Under the MCBO program, CSAT will address the challenges that impact sustainability, including under capitalization, limited administrative and support staff, and unfamiliarity with the complex competitive grant writing process. The contractor implementing the program will provide technical assistance and coordinated training opportunities to strengthen the indigenous service providers' ability to successfully obtain funding from a range of sources. To assess participant satisfaction with specific training and meetings, the MCBO program will use the Government Performance and Results Act Customer Satisfaction Surveys for the Center for Substance Abuse Treatment Knowledge Application Programs (OMB No. 0930-0197).

The charts below summarize the estimated total three-year burden and annual average burden.

NLI Annual Burden Estimates and Costs
Form | Number of respondents | Responses/respondent | Burden/response | Total hours
Technical Assistance Recipients:
Initial Contact Form | 240 | 1 | .10 | 24
Organization Self Assessment—Part 1 | 210 | 1 | .75 | 158
Organization Self Assessment—Part 2 | 210 | 1 | .75 | 158
Short Organization Self Assessment Follow-up | 210 | 2 | .75 | 315
Technical Assistance Event Satisfaction | 210 | 1 | .05 | 11
12-month Activity Summary | 210 | 1 | .25 | 53
24-month Activity Summary | 210 | 1 | .20 | 42
Comprehensive NLI Satisfaction | 210 | 1 | .07 | 15
Training Participants:
Training Participant Information Form—Pre-Training | 1,500 | 1 | .08 | 120
Training Participant Information Form—Post-Training | 1,500 | 1 | .05 | 75
Training Participant 30 day follow-up | 1,500 | 1 | .05 | 75
Total | 1,740 |  |  | 1,046
Annual average | 580 |  |  | 349

MCBO Program Annual Estimates and Costs
Form | Number of respondents | Responses/respondent | Burden/response (hrs.) | Total hours
Technical Assistance Recipients:
Organization Self Assessment—Part 1 | 30 | 1 | .75 | 23
Organization Self Assessment—Part 2 | 30 | 1 | .75 | 23
Short Organization Self Assessment—Follow-up | 30 | 1 | .75 | 23
Total | 30 |  |  | 69
Annual average | 10 |  |  | 23
Note: The MCBO is a 2-year program and will, thus, only collect the Follow-Up one time, 12 months after the initial assessment.

Written comments and recommendations concerning the proposed information collection should be sent within 30 days of this notice to: Lauren Wittenberg, Human Resources and Housing Branch, Office of Management and Budget, New Executive Office Building, Room 10235, Washington, DC 20503.

Dated: February 21, 2002.
Richard Kopanda,
Executive Officer, SAMHSA.

[FR Doc. 02-4777 Filed 2-27-02; 8:45 am]

BILLING CODE 4162-20-P